DEPARTMENT OF TRANSPORTATION

Surface Transportation Board

[Docket No. FD 35760]

Hainesport Industrial Railroad, LLC—Corporate Family Transaction Exemption

AGENCY: Surface Transportation Board.

ACTION: Correction to Notice of Exemption.

On August 26, 2013, Hainesport Industrial Railroad, LLC (Hainesport), a Class III railroad, filed a verified notice of exemption under 49 CFR 1180.2(d)(3) for a corporate family transaction pursuant to which Hainesport would transfer ownership and operation of a line of railroad, described as the East Line, in Hainesport, N.J., to a corporate affiliate, Hainesport Secondary Railroad, LLC (Hainesport Secondary).¹ The notice was served and published in the Federal Register on September 11, 2013 (78 FR 55,776), and became effective on September 25, 2013.

¹ In a notice served on July 16, 2015, the Board approved a verified notice of exemption filed by Hainesport, Tunnel Hill Partners, LP (Tunnel), and New Amsterdam & Seneca Railroad Company (NAS), for Tunnel, which owns NAS, to acquire control of Hainesport. Tunnel Hill Partners, LP—Acquis. of Control Exemption—Hainesport Indus. R.R., FD 35942 (STB served July 16, 2015).

On August 6, 2015, Hainesport filed a petition to correct or amend the notice. According to Hainesport, the map provided with its notice incorrectly depicted the East Line. Thus, Hainesport requests that the Board substitute the map identified as Exhibit A to its petition for the map submitted in the notice. This correction is recognized here. All remaining information from the September 11, 2013 notice remains unchanged.

Board decisions and notices are available on our Web site at WWW.STB.DOT.GOV.

Decided: November 2, 2015.
By the Board, Rachel D. Campbell, Director, Office of Proceedings.
Brendetta S. Jones,
Clearance Clerk.

[FR Doc. 2015-28190 Filed 11-4-15; 8:45 am]

BILLING CODE 4915-01-P